DEPARTMENT OF ENERGY

Federal Energy Regulatory Commission

Combined Notice of Filings #1

Take notice that the Commission received the following Complaints and Compliance filings in EL Dockets:

Docket Numbers: EL24-53-000.

Applicants: Grain Belt Express LLC v. Midcontinent Independent System Operator, Inc.

Description: Complaint of Grain Belt Express LLC v. Midcontinent Independent System Operator, Inc.

Filed Date: 1/10/24.

Accession Number: 20240110-5196.

Comment Date: 5 p.m. ET 1/25/24.

Take notice that the Commission received the following electric rate filings:

Docket Numbers: ER19-1644-003.

Applicants: Richland-Stryker Generation LLC.

Description: Richland-Stryker Generation LLC submits a Reactive Power Informational Filing Regarding Planned Upstream Change in Control and Request for Waiver.

Filed Date: 1/2/24.

Accession Number: 20240102-5514.

Comment Date: 5 p.m. ET 1/23/24.

Docket Numbers: ER23-1851-005.

Applicants: PJM Interconnection, L.L.C.

Description: Tariff Amendment: Response to Commission's 12/12/2023 Deficiency Letter in ER23-1851-003, -004 to be effective 12/31/9998.

Filed Date: 1/11/24.

Accession Number: 20240111-5195.

Comment Date: 5 p.m. ET 2/1/24.

Docket Numbers: ER23-2003-004.

Applicants: Invenergy Nelson Expansion LLC.

Description: Tariff Amendment: Supplement to January 2, 2024 Deficiency Letter Response to be effective 7/1/2023.

Filed Date: 1/12/24.

Accession Number: 20240112-5021.

Comment Date: 5 p.m. ET 2/2/24.

Docket Numbers: ER24-476-001.

Applicants: ISO New England Inc.

Description: ISO-NE submits an Errata to its Informational Filing regarding Forward Capacity Auction 18.

Filed Date: 1/10/24.

Accession Number: 20240110-5205.

Comment Date: 5 p.m. ET 1/16/24.

Docket Numbers: ER24-672-002.

Applicants: Moonshot Solar, LLC.

Description: Tariff Amendment: Moonshot Solar, LLC Amendment to MBR Tariff to be effective 2/1/2024.

Filed Date: 1/12/24.

Accession Number: 20240112-5043.

Comment Date: 5 p.m. ET 2/2/24.

Docket Numbers: ER24-673-002.

Applicants: PGR 2022 Lessee 5, LLC.

Description: Tariff Amendment: PGR 2022 Lessee 5, LLC Amendment to MBR Tariff to be effective 2/1/2024.

Filed Date: 1/12/24.

Accession Number: 20240112-5044.

Comment Date: 5 p.m. ET 2/2/24.

Docket Numbers: ER24-862-000.

Applicants: PJM Interconnection, L.L.C.

Description: § 205(d) Rate Filing: Original NSA, Service Agreement No. 7160; Queue No. AE2-110 to be effective 3/12/2024.

Filed Date: 1/11/24.

Accession Number: 20240111-5172.

Comment Date: 5 p.m. ET 2/1/24.

Docket Numbers: ER24-863-000.

Applicants: Keystone Appalachian Transmission Company, PJM Interconnection, L.L.C.

Description: § 205(d) Rate Filing: Keystone Appalachian Transmission Company submits tariff filing per 35.13(a)(2)(iii: KATCo submits Original IA, SA No. 6928 re: FirstEnergy Reorganization to be effective 1/1/2024.

Filed Date: 1/11/24.

Accession Number: 20240111-5175.

Comment Date: 5 p.m. ET 2/1/24.

Docket Numbers: ER24-865-000.

Applicants: New York Independent System Operator, Inc.

Description: § 205(d) Rate Filing: NYISO 205 Filing: Scnd Amnd Development Agreement NYISO, NYTransco (SA2510) to be effective 12/15/2023.

Filed Date: 1/12/24.

Accession Number: 20240112-5032.

Comment Date: 5 p.m. ET 2/2/24.

Docket Numbers: ER24-866-000.

Applicants: Desert Sunlight 250, LLC.

Description: § 205(d) Rate Filing: Desert Sunlight 250, LLC 2nd Amended LGIA Co-Tenancy Agreement to be effective 12/21/2023.

Filed Date: 1/12/24.

Accession Number: 20240112-5052.

Comment Date: 5 p.m. ET 2/2/24.

Docket Numbers: ER24-867-000.

Applicants: PJM Interconnection, L.L.C.

Description: § 205(d) Rate Filing: Amendment to ISA, Service Agreement No. 6864; Queue No. AF1-019 to be effective 3/13/2024.

Filed Date: 1/12/24.

Accession Number: 20240112-5057.

Comment Date: 5 p.m. ET 2/2/24.

Docket Numbers: ER24-868-000.

Applicants: Tri-State Generation and Transmission Association, Inc.

Description: § 205(d) Rate Filing: Amendment to Service Agreement FERC No. 803 to be effective 12/18/2023.

Filed Date: 1/12/24.

Accession Number: 20240112-5060.

Comment Date: 5 p.m. ET 2/2/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 12, 2024.
Debbie-Anne A. Reese,
Acting Secretary.

[FR Doc. 2024-01042 Filed 1-18-24; 8:45 am]

BILLING CODE 6717-01-P